DEPARTMENT OF THE INTERIOR

Geological Survey

[GX21NB00TKY9000; OMB Control Number 1028-NEW]

Agency Information Collection Activities; Hunter Harvest and Satisfaction Surveys on Green Bay and Lake Michigan

AGENCY: U.S. Geological Survey, Interior.

ACTION: Notice of information collection; request for comment.

SUMMARY: In accordance with the Paperwork Reduction Act (PRA) of 1995, we, the U.S. Geological Survey (USGS) are proposing approval of an existing collection in use without an OMB Control Number.

DATES: Interested persons are invited to submit comments on or before May 31, 2022.

ADDRESSES: Send your comments on this information collection request (ICR) by mail to Dionne Duncan-Hughes, U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Luke Fara by email at lfara@usgs.gov or by telephone at (608) 781-6233. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct, or sponsor, nor are you required to respond to a collection of information, unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not this collection of information is necessary for the proper performance of the functions of the agency, including whether or not this information will have practical utility.

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: This collection seeks to gather information on harvest and satisfaction from waterfowl hunters on the open waters of Green Bay and Lake Michigan. From 2021 through 2025, the Wisconsin waterfowl hunting season will have a North, South, and a new area called the Open Water Zone. The Open Water Zone will be specific to the offshore, open waters of Lake Michigan and Green Bay. Specific regulations for this new zone, which starts 500 feet offshore and extends to the Wisconsin-Michigan state boundary, can be modified during the five-year period and input from hunters will provide critical information to improve hunter satisfaction. The existing survey used to gather information on the season frameworks preferred by hunters under the 2016-2020 season structure cannot be applied to the Open Water Zone; thus, USGS plans to conduct both in-person and online surveys targeted toward open water hunters to gather their input on season frameworks. Surveys will also be used to inform managers on what, where, and how many species of waterfowl are harvested in this open water environment. Wisconsin waterfowl mangers will use information collected from this survey to assist in developing season frameworks within this new zone and provide information on harvest composition.

Title of Collection: Hunter Harvest and Satisfaction Surveys on Green Bay and Lake Michigan.

OMB Control Number: 1028-NEW.

Form Number: None.

Type of Review: An existing collection without an OMB number.

Respondents/Affected Public: Waterfowl hunters that hunt the open waters of Green Bay and Lake Michigan.

Total Estimated Number of Annual Respondents: 200.

Total Estimated Number of Annual Responses: 600.

Estimated Completion Time per Response: 10 minutes on average.

Total Estimated Number of Annual Burden Hours: 100.

Respondents' Obligation: Voluntary.

Frequency of Collection: Occur each time they hunt the open waters of Green Bay and/or Lake Michigan.

Total Estimated Annual Nonhour Burden Cost: None.

An agency may not conduct, or sponsor, nor is a person required to respond to, a collection of information unless it displays a currently valid OMB control number.

The authority for this action is the Paperwork Reduction Act of 1995 (44 U.S.C. 3501 et seq.).

Luke Fara,
Biologist.

[FR Doc. 2022-06777 Filed 3-30-22; 8:45 am]

BILLING CODE 4338-11-P